DEPARTMENT OF ENERGY

Federal Energy Regulatory Commission

[Docket No. IC10-730-000]

Commission Information Collection Activities (Ferc-730); Comment Request; Extension

November 10, 2009.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due January 22, 2010.

ADDRESSES: Comments may be filed either electronically (eFiled) or in paper format, and should refer to Docket No. IC10-730-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at: http://www.ferc.gov/docs-filing/elibrary.asp, by searching on Docket No. IC10-730. For user assistance, contact FERC Online Support by e-mail at ferconlinesupport@ferc.gov, or by phone, toll-free, at: (866) 208-3676, or (202) 502-8659 for TTY.

FOR FURTHER INFORMATION CONTACT: Ellen Brown may be reached by telephone at (202) 502-8663, by fax at (202) 273-0873, and by e-mail at ellen.brown@ferc.gov.

SUPPLEMENTARY INFORMATION: The FERC-730, “Report of Transmission Investment Activity,” (OMB Control No. 1902-0239) is filed by public utilities that have been granted incentive rate treatment for specific electric transmission projects. Filing requirements are specified in 18 CFR 35.35(h). Actual and planned transmission investments, and related project data for the most recent calendar year and the subsequent five years, must be reported annually beginning with the calendar year that the Commission granted the incentive rates.

Congress enacted section 1241 of the Energy Policy Act of 2005 (EPAct 2005), adding a new section 219 to the Federal Power Act (FPA), to promote the operation, maintenance and enhancement of electric transmission infrastructure.¹ Congress aimed to benefit consumers by ensuring reliability and/or reducing the cost of delivered power through reducing transmission congestion. In response to EPAct 2005, in Docket No. RM06-4, the Commission amended its regulations to allow for these incentive-based, (including performance-based), rate treatments.

¹ Energy Policy Act of 2005, Public Law 109-58, 119 Stat. 594, 315 and 1283 (2005).

Through Docket No. RM06-4, the Commission amended its regulations in 18 CFR 35.35 to identify the incentive ratemaking treatments allowed under FPA section 219. Incentives are required to be tailored to the type of transmission investments being made, and each applicant must demonstrate that its proposal meets the requirements of FPA section 219.

The Commission needs the information filed under FERC-730 to provide a basis for determining the effectiveness of the new rules and regulations and to provide an accurate assessment of the state of the industry with respect to transmission investment.

Action: The Commission is requesting a three-year extension of the current FERC-730 reporting requirements, with no change.

Burden Statement: The estimated, annual public reporting burden for FERC-730 follows.²

² The number of expected annual responses was overestimated in the Final Rule in Docket No. RM06-4. The figures here represent a significant reduction in the number of estimated annual responses (20 responses, rather than the previous estimate of 200 responses), and the corresponding associated estimates for total industry burden and cost.

FERC information collection | Annual number of respondents | Average number of reponses per respondent | Average burden hours per response | Total annual burden hours
| (1) | (2) | (3) | (1)x(2)x(3)
FERC-730 | 20 | 1 | 30 | 600

The total estimated annual cost burden to respondents is $37,008.75 (600 hours/2,080 hours ³ per year, times $128,297 ⁴ equals $37,008.75).

³ Number of hours an employee works each year.

⁴ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Kimberly D. Bose,
Secretary.

[FR Doc. E9-27562 Filed 11-16-09; 8:45 am]

BILLING CODE 6717-01-P